DEPARTMENT OF JUSTICE

Notice of Lodging of Proposed Consent Decree Under the Comprehensive Environmental Response, Compensation, and Liability Act

On August 6, 2024, the Department of Justice lodged a proposed Consent Decree with the United States District Court for the District of Columbia in the lawsuit entitled United States v. Lawrence N. Brandt, Inc., Glenbrook Limited Partnership, and American University (Civil Action No. 1:24-CV-02303).

The proposed Consent Decree resolves claims set forth in the Complaint against Lawrence N. Brandt, Inc., Glenbrook Limited Partnership, and American University for recovery of costs pursuant to Sections 107(a) and 113 of CERCLA, 42 U.S.C. 9607 and 9613, and related to the 4825 Glenbrook Road Spring Valley Formerly Used Defense Site (FUDS). The Site is a residential parcel that previously included a single-family, detached home, located in the Spring Valley residential community in northwest Washington, DC. During World War I, American University offered the United States Government the use of its campus to support the war effort against Germany. Between 1917 and 1920, the United States Government subsequently used portions of the American University campus to conduct the research and development of chemical warfare material (CWM), including mustard and lewisite agents. Some of the CWM-related material was buried at various locations within the Spring Valley FUDS, including the 4825 Glenbrook Road property (which was later developed by Lawrence N. Brandt, Inc. and Glenbrook Limited Partnership). As a result, the United States also is a responsible party in this case.

Under the proposed settlement, American University will pay $4 million, and Lawrence N. Brandt, Inc. and Glenbrook Limited Partnership will pay $750,000 in reimbursement for their share of response costs related to the Site. In return, the United States agrees not to sue Defendants under section 107(a) of CERCLA for certain response costs related to the Site, and Defendants likewise agree not to sue the United States with respect to certain response costs. Because the U.S. Army Corps of Engineers handles all remediation work related to the Spring Valley cleanup, no response work is required of the Defendants under the Consent Decree.

The publication of this notice opens a period for public comment on the Consent Decree. Comments should be addressed to the Assistant Attorney General, Environment and Natural Resources Division, and should refer to United States v. Lawrence N. Brandt, Inc., Glenbrook Limited Partnership, and American University (Civil Action No. 1:24-CV-02303) and D.J. Ref. No. 90-11-3-12095. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the Consent Decree may be examined and downloaded at this Justice Department website: https://www.justice.gov/enrd/consent-decrees. If you require assistance accessing the Consent Decree, you may request assistance by email or by mail to the address provided above for submitting comments.

Jason Dunn,
Assistant Section Chief, Environmental Enforcement Section, Environment and Natural Resources Division;

[FR Doc. 2024-17944 Filed 8-12-24; 8:45 am]

BILLING CODE 4410-15-P